DEPARTMENT OF COMMERCE

International Trade Adminstration

[A-570-803]

Heavy Forged Hand Tools, Finished or Unfinished, With or Without Handles, From the People's Republic of China: Extension of Time Limit for Preliminary Results of Antidumping Duty Administrative Review

AGENCY: Import Administration, International Trade Administration, Department of Commerce.

ACTION: Notice of Extension of Time Limits for Preliminary Results of Antidumping Duty Administrative Review.

EFFECTIVE DATE: October 16, 2003.

FOR FURTHER INFORMATION CONTACT: Mark Manning or Jeff Pedersen, AD/CVD Enforcement, Office 4, Group II, Import Administration, International Trade Administration, U.S. Department of Commerce, 14th Street and Constitution Avenue, NW, Washington, DC 20230; telephone (202) 482-5253 or (202) 482-2769, respectively.

SUPPLEMENTARY INFORMATION:

Statutory Time Limits

Section 751(a)(3)(A) of the Tariff Act of 1930, as amended (the Act), requires the Department of Commerce (the Department) to make a preliminary determination within 245 days after the last day of the anniversary month of an order or finding for which a review is requested and a final determination within 120 days after the date on which the preliminary determination is published. However, if it is not practicable to complete the review within these time periods, section 751(a)(3)(A) of the Act allows the Department to extend the 245-day time limit for the preliminary determination to a maximum of 365 days and the time limit for the final determination to 180 days (or 300 days if the Department does not extend the time limit for the preliminary determination) from the date of publication of the preliminary determination.

Background

On March 25, 2003, the Department published a notice of initiation of administrative review of the antidumping duty order on heavy forged hand tools, finished or unfinished, with or without handles from the People's Republic of China, covering the period February 1, 2002 through January 31, 2003. See Initiation of Antidumping and Countervailing Duty Administrative Reviews and Requests for Revocation in Part, 68 FR 14394. The preliminary results are currently due no later than October 31, 2003.

Extension of Time Limit for Preliminary Results of Review

We determine that it is not practicable to complete the preliminary results of this review within the original time limit because of the time needed to consider certain factual issues in the case. This extension results in the due date for the preliminary results falling on February 28, 2004, which is a Saturday. Therefore, the preliminary results will be due on the next business day, which is March 1, 2004. See Decision Memorandum from Thomas F. Futtner, Acting Office Director, to Holly A. Kuga, Acting Deputy Assistant Secretary, dated concurrently with this notice, which is on file in the Central Records Unit, Room B-099 of the Department's main building. We intend to issue the final results no later than 120 days after the publication of the preliminary results notice.

This extension is in accordance with section 751(a)(3)(A) of the Act.

Dated: October 9, 2003.
Holly A. Kuga,
Acting Deputy Assistant Secretary for Import Administration, Group II.

[FR Doc. 03-26212 Filed 10-15-03; 8:45 am]

BILLING CODE 3510-DS-S